DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Methamphetamine Use Prevention Initiative—NEW

Prevention of Methamphetamine Abuse grants are authorized under section 519E of the Public Health Service Act, as amended. This program addresses the growing problem of methamphetamine abuse and addiction by assisting localities to expand prevention interventions that are effective and evidence-based and/or to increase capacity through infrastructure development. According to the 2005 National Survey on Drug Use and Health, 10.4 million Americans age 12 and older had tried methamphetamine at least once in their lifetime. In addition, the number of methamphetamine users who were dependent on or abused some kind of illicit drug rose significantly from 164,000 in 2002 to 257,000 in 2005. The goal of the Methamphetamine Abuse Prevention grants is to intervene effectively to prevent, reduce, or delay the use and/or spread of methamphetamine abuse.

Proposed Methamphetamine Prevention and Abuse grants will focus on conducting community-based prevention programs targeting those populations within the community that are most at risk for methamphetamine abuse and addiction. In addition, grants may be used for assisting local government entities to conduct appropriate methamphetamine prevention activities in rural and urban areas that are experiencing increases in methamphetamine abuse and addiction. This can be documented by local and specific epidemiological, health service use, judicial and/or environmental data. Activities may include: training and educating state and local law enforcement officials, prevention and education officials, members of community anti-drug coalitions, and parents on the signs of methamphetamine abuse and addiction and the options for prevention; planning, administration, and educational activities related to the prevention of methamphetamine abuse and addiction; monitoring and evaluating of methamphetamine prevention activities, and reporting and disseminating resulting information to the public; or conducting and evaluating targeted pilot programs.

The grantees will be collecting data on Office of Management and Budget (OMB) No. 0930-0230 approved National Outcomes Measures (NOMs) and program specific questions on youth and adult methamphetamine use. There are two questionnaire forms: one for adults ages 18 and older and another for youths under the age of 18. The adult and youth questionnaires contain 40 and 42 questions, respectively, with the first 12 questions covering the OMB approved NOMs questions. The focus areas for the adult questionnaires comprise attitudes toward tobacco, alcohol, and other substances; attitudes and experiences; family relationships, relationships with those around you; future goals; thoughts, beliefs, and experiences related to methamphetamines; and thoughts on possible effects of methamphetamine use. The youth survey focus areas include: general information; attitudes toward tobacco, alcohol, and other substances; attitudes and experiences; family relationships; school experiences; perceived probability to try substances; where they receive substance abuse information; thoughts, beliefs, and experiences relating to methamphetamine; effects of methamphetamine use; and how comfortable they were with answering the survey questions. Additional non-methamphetamine-related questions are included to identify risk and protective factors for methamphetamine. These questions identify demographic information which will be useful in categorizing results. Some program specific questions were suggested and agreed upon by the grantees in the review of the questionnaire.

All applicants must describe their evaluation plans in their applications, and funded grantees are required to conduct an evaluation of their projects. The evaluation should be designed to provide regular feedback in order to facilitate project improvements. The evaluation must include both process and outcome components which must measure change relating to project goals and objectives over time compared to baseline information. Control or comparison groups are not required. Applicants must consider their evaluation plans when preparing the project budget. The grantees will collect data from program participants at three time periods: baseline, exit, and 6-month follow-up. Each methamphetamine grantee will collect program specific questions in addition to NOM questions. Similar to the submission process for the Government Performance and Results Act (GPRA), grantees will submit their NOM-Meth data to their respective program Project Officers as well as to the Center for Substance Abuse Prevention's (CSAP) Data Coordination and Consolidation Center (DCCC) two times per year. The OMB approved NOMs incorporate the GPRA measures for reporting and are approved for all PRNS. DCCC will be responsible for data collection and analysis across grantee sites, while individual grantees will be responsible for their own analyses.

The burden is greatly reduced by the fact that the data collection process can be conducted by submitting electronic files. In many cases, some programs can collect all data online. The SAMHSA Prevention Platform has publicly available online data collection and reporting tools such as the database builder, which can be used to meet these reporting requirements. Other tools are under development. CSAP is currently developing a web-based data entry tool that will assist grantees in submitting their data electronically. This data entry tool will reduce the burden on those grantees that do not yet have the capacity to submit large batch files. The DCCC will use this data for secondary analysis that will aid CSAP in responding to GPRA, Office of National Drug Control Policy as well as other federal reporting requirements.

Description | Number of respondents | Responses per respondent | Hours per response | Total
Provider survey | 10,000 | 1 | .36 | 3600
Exiting survey | 10,000 | 1 | .36 | 3600
6-month follow-up survey | 7,000 | 1 | .36 | 2520
Total | 27,000 | 3 | 1.08 | 9720

Send comments to Summer King, SAMHSA Reports Clearance Officer, Room 7-1044, One Choke Cherry Road, Rockville, MD 20857 AND e-mail her a copy at summer.king@samhsa.hhs.gov. Written comments should be received within 60 days of this notice.

Dated: August 14, 2007.
Elaine Parry,
Acting Director, Office of Program Services.

[FR Doc. E7-17277 Filed 8-30-07; 8:45 am]

BILLING CODE 4162-20-P